DEPARTMENT OF ENERGY

Federal Energy Regulatory Commission

[Docket No. RP02-124-000]

Northern Natural Gas Company; Notice of Tariff Filing

December 20, 2001.

Take notice that on December 17, 2001, Northern Natural Gas Company (Northern) tendered for filing to become part of its FERC Gas Tariff, the following tariff sheet, with an effective date of December 6, 2001:

Fifth Revised Volume No. 1

Sixth Revised Sheet No. 3

Original Volume No. 2

68 Revised Sheet No. 1

Second Revised Sheet No. 483

Northern states that the above referenced sheets represent cancellation of Rate Schedule X-33 from Northern's Original Volume No. 2 FERC Gas Tariff, and the associated deletions from the Table of Contents in Northern's Volume Nos. 1 and 2 tariffs.

Northern states that copies of the filing were served upon the company's customers and interested State Commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31995 Filed 12-27-01; 8:45 am]

BILLING CODE 6717-01-P